ENVIRONMENTAL PROTECTION AGENCY

40 CFR Parts 141 and 142

[FRL-7413-9]

RIN 2040-AD06

National Primary Drinking Water Regulations: Minor Revisions to Public Notification Rule, Consumer Confidence Report Rule and Primacy Rule

Correction

In rule document 02-30117 beginning on page 70850 in the issue of Wednesday, November 27, 2002, make the following correction:

Appendix A to Subpart O of Part 141 [Corrected]

On page 70857, in the table, in the first column, in the second entry, in the second line, “andipate” should read, “adipate.”

[FR Doc. C2-30117 Filed 12-6-02; 8:45 am]

BILLING CODE 1505-01-D